DEPARTMENT OF HEALTH AND HUMAN SERVICES

Administration for Children and Families

Submission for OMB Review; Formative Evaluation of the Demonstration Grants To Strengthen the Response to Victims of Human Trafficking in Native Communities Program (New Collection)

AGENCY: Office of Planning, Research, and Evaluation, Administration for Children and Families, HHS.

ACTION: Request for public comments.

SUMMARY: The Administration for Children and Families (ACF) is proposing a new data collection activity for the Formative Evaluation of the Demonstration Grants to Strengthen the Response to Victims of Human Trafficking in Native Communities (VHT-NC) Program. The overarching goals of the formative evaluation are to understand the context in which the VHT-NC projects are implemented, the projects' goals, and the paths they take to achieve their goals. The proposed data collection will include semi-structured interviews with project staff, key partners, and project participants.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. Identify all requests by the title of the information collection.

SUPPLEMENTARY INFORMATION: Description: In 2020, ACF's Office on Trafficking in Persons issued six VHT-NC demonstration grants to fund projects to build, expand, and sustain organizational and community capacity to deliver services to Native Americans (i.e., American Indians, Alaska Natives, Native Hawaiians, and/or Pacific Islanders) who have experienced human trafficking through the provision of direct services, assistance, and referrals. The purpose of the proposed data collection is to obtain a comprehensive understanding of the VHT-NC projects and their communities, including implementation strengths and challenges. A primary aim is to conduct a participatory and culturally responsive formative evaluation that is informed by and respects the knowledge, values, and traditions of the communities implementing the VHT-NC projects.

The proposed data collection will include semi-structured interviews with VHT-NC project staff, key project partners, and project participants (adults who have received assistance from the VHT-NC project). Interviews with project staff and partners will be conducted individually or, if appropriate and requested by respondents, in small groups. Interview topics will include community context, project goals and design, organizational and staff characteristics, partnerships, outreach and identification approaches, case management and service provision, survivor engagement, and community training. Interviews with project participants will be conducted individually. Participant interviews will focus on the project services and assistance received by participants, including those most helpful to healing and recovery.

Respondents: Respondents include VHT-NC project staff (e.g., project directors, project coordinators, case managers/advocates, specialized services staff), key project partner staff, and project participants (adults who have received assistance from the VHT-NC project).

Annual Burden Estimates
Instrument | Number of respondents (total over request period) | Number of responses per respondent (total over request period) | Avg. burden per response (in hours) | Total/annual burden (in hours)
Project leadership interview | 18 | 1 | 1.5 | 27
Direct services staff interview | 24 | 1 | 1.25 | 30
Partner interview | 36 | 1 | 1.25 | 45
Participant interview | 30 | 1 | 1 | 30

Estimated Total Annual Burden Hours: 132.

Authority: Section 105(d)(2) of the Trafficking Victims Protection Act of 2000 (Pub. L. 106-386) [22 U.S.C. 7103].

Mary B. Jones,
ACF/OPRE Certifying Officer.

[FR Doc. 2022-25780 Filed 11-25-22; 8:45 am]

BILLING CODE 4184-47-P